DEPARTMENT OF HOUSING AND URBAN DEVELOPMENT

[Docket No. FR-5484-N-03]

Notice of Proposed Information Collection: Comment Request; Application for HUD/FHA Insured Mortgage “HOPE for Homeowners”

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: April 18, 2011.

ADDRESSES: Interested persons are invited to submit comments regarding this proposal. Comments should refer to the proposal by name and/or OMB Control Number and should be sent to: Reports Liaison Officer, Department of Housing and Urban Development, 451 7th Street, SW., Washington, DC 20410, Room 9120 or the number for the Federal Information Relay Service (1-800-877-8339).

FOR FURTHER INFORMATION CONTACT: Karin Hill, Director, Office of Single Family Program Development, Department of Housing and Urban Development, 451 7th Street, SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: HUD/FHA Insured Mortgage “HOPE” for Homeowners.

OMB Control Number, if applicable: 2502-0579.

Description of the need for the information and proposed use: This information is collected on new mortgages offered by FHA approved mortgagees to mortgagors who are at risk of losing their homes to foreclosure through the HOPE for Homeowners Program, and to those who owe more than the value of their homes through the FHA Refinance of Borrowers in Negative Equity Positions. The new FHA insured mortgages refinance the borrower's existing mortgage at a significant writedown. Under the HOPE for Homeowners program the mortgagors share the new equity with FHA.

Agency form numbers, if applicable: HUD92900-H4H, HUD92915-H4H, HUD92916-H4H and HUD92917-H4H, and HUD-92918.

Estimation of the total numbers of hours needed to prepare the information collection including number of respondents, frequency of response, and hours of response: The number of burden hours is 146,096. The number of respondents is 11,000, the number of responses is 882,242, the frequency of response is once per loan, and the burden hour per response is 4.05.

Status of the proposed information collection: This is a revision of a currently approved collection.

Authority: The Paperwork Reduction Act of 1995, 44 U.S.C., Chapter 35, as amended.

Dated: February 11, 2011.
Ronald Y. Spraker,
Associate General Deputy Assistant Secretary for Housing.

[FR Doc. 2011-3510 Filed 2-15-11; 8:45 am]

BILLING CODE 4210-67-P